DEPARTMENT OF TRANSPORTATION

Federal Motor Carrier Safety Administration

[Docket No. FMCSA-2024-0092]

Commercial Learner's Permit (CLP): Connell High School; Application for Exemption

AGENCY: Federal Motor Carrier Safety Administration (FMCSA), Department of Transportation (DOT).

ACTION: Notice of final disposition; denial of application for exemption.

SUMMARY: FMCSA announces its decision to deny Connell High School's (CHS) application for exemption from the commercial learner's permit (CLP) minimum 18-year age requirement. The applicant sought a 5-year exemption to allow students participating in the CHS Commercial Driver's License (CDL) Training Program to obtain a CLP at the age of 17. The program would span two semesters (one full school year) and provide 180 hours of classroom, field, and drive time training. FMCSA analyzed the application and determined there is insufficient information to conclude that the exemption would likely achieve a level of safety that is equivalent to, or greater than, the level that would be achieved absent such exemption.

FOR FURTHER INFORMATION CONTACT: Ms. Bernadette Walker, FMCSA Driver, and Carrier Operations Division; Office of Carrier, Driver and Vehicle Safety Standards; 202-385-2415; bernadette.walker@dot.gov.

SUPPLEMENTARY INFORMATION:

I. Public Participation

Viewing Comments and Documents

To view comments, go to www.regulations.gov, insert the docket number “FMCSA-2024-0092” in the keyword box, and click “Search.” Next, sort the results by “Posted (Newer-Older),” choose the first notice listed, click “Browse Comments.”

To view documents mentioned in this notice as being available in the docket, go to www.regulations.gov, insert docket number “FMCSA-2024-0092” in the keyword box, click “Search,” and choose the document to review.

If you do not have access to the internet, you may view the docket by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses submitted by the applicant. The Agency must provide an opportunity for public comment on the request.

The Agency reviews safety analyses and public comments submitted and determines whether granting the exemption would likely achieve a level of safety equivalent to, or greater than, the level that would be achieved absent such exemption, pursuant to the standard in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulation(s) Requirements

Under 49 CFR 383.5, a CLP is defined as a permit issued by a State or other jurisdiction of domicile, in accordance with the standards contained in 49 CFR part 383, which, when carried with a valid driver's license issued by the same State or jurisdiction, authorizes an individual to operate a class of a commercial motor vehicle when accompanied by a holder of a valid CDL for purposes of behind-the-wheel training. Under 49 CFR 383.25(a)(4), a CLP holder must be 18 years of age or older.

Applicant's Request

CHS's application for an exemption was described in the Federal Register published on May 17, 2024 (89 FR 43503), and the description will not be repeated here as the facts have not changed.

Applicant's Method To Ensure an Equivalent or Greater Level of Safety

CHS believes granting its requested exemption will achieve an equivalent or greater level of safety as would be obtained by complying with the regulation. It states that the Washington State Office of Superintendent of Public Instruction approved the North Franklin School District's CDL preparatory program, which is also listed on FMCSA's Training Provider Registry. The program incorporates various safety requirements, training, and field exercises such as:

• Requiring students to maintain a clean driving record throughout the entirety of the CDL course;

• Training courses from the Washington State Patrol on sex trafficking, vehicle inspections, and other commercial vehicle regulations;

• Use of golf carts and utility trailers to teach backing techniques; and

• Commercial vehicle training simulators to enhance the overall curriculum.

The applicant also cites a study titled “Commercial Motor Vehicle Driver Risk Based on Age and Driving Experience,” by the Virginia Tech Transportation Institute (VTTI). The applicant asserts that the study found that driving experience plays a greater role in the safe operation of a CMV than driver age.

IV. Public Comments

On May 17, 2024, FMCSA published notice of CHS's application and requested public comments (89 FR 43503). The Agency received comments from 32 commenters: 15 in support of granting the exemption and 17 in opposition. All of the supporting comments were from individuals. Of the comments in support, a majority believed that individuals in the program would be successful with the proper training. One individual commented, “[T]his exemption is only an [ask] for 17-year-olds to be able to receive their [permit], not their actual CDL Class A License. Students would [still] have to pass their physical, drug testing, and written exam for their permit and only those with their permit would be allowed to drive within a restricted location and under the direct supervision of a licensed and approved trainer.” Grant Morris stated, “[T]his is absolutely necessary. We do not have enough truck drivers available for harvest in this state. These programs in the schools are a great way to get kids involved in that industry. [I] fully support the effort.”

Of the 17 opposing comments, two were from trucking companies. The majority of commenters who opposed the exemption agreed that the students were too young and lacked the appropriate experience to operate a CMV. AWM Associates, LLC, stated, “I am not convinced that all 17-year-old students are mature enough to operate a 32,000-pound CMV in traffic. It appears that Connell High School is in a rural community, however, the drivers they train will be able to drive anywhere. The FMCSA doesn't have the personnel to oversee CDL schools and as a result of that too many CDL schools have no oversight to review their performance. Granting the waiver would open the flood gates for other high schools to apply for the same waiver. Connell High School's application should be denied.” Food Tree LLC also opposed granting the exemption, stating, “You have to be kidding!! These [kids] have not even learned to drive a car yet. They are truly irresponsible with cell phones and self-discipline when driving. I'm tired of every Tom dick and Harry being able to skate through straight to a CDL or permit. You are putting my family and millions of other families lives in danger! I don't care what a high school teacher thinks about [its] students. Common sense is what's needed, not some gold star beside names on a board. All we true truck drivers, earned what we have the old school way. [P]aying your dues and proving yourself to honest law enforcement and CDL school training that would actually fail you if you did not deserve it.” Chris Ogden commented in opposition to the exemption, “I am not in favor of granting the school's application. 17-year-olds are simply not mature enough to be operating a commercial vehicle weighing up to 70,000 pounds.” Drew Mueller, also in opposition of granting the exemption, commented, “This concept is terrible. Young drivers don't have the experience or judgement to handle big trucks. Just because there is a shortfall of candidates doesn't mean we change the laws and lower expectations. Create incentives for mature truck drivers to continue their career paths and attract new candidates in the same manner.”

V. FMCSA Safety Analysis and Decision

FMCSA has evaluated CHS's application and the public comments and denies the exemption request. Based on the information provided by the applicant and commenters, the Agency is unable to determine that the exemption would achieve a level of safety equivalent to, or greater than, the level obtained by complying with the regulation. The VTTI research study CHS cited, entitled “Commercial Motor Vehicle Driver Risk Based on Age and Driving Experience” and dated April 17, 2020, does not support granting the exemption. While the VTTI study CHS cites did find that CMV driving experience was more important than age in the driver group examined, the study did not include data on drivers under the age of 21; it thus does not provide information on the individuals who would be covered by CHS's requested exemption. In addition, a separate study entitled, Commercial Driver Safety Risk Factors,¹ dated June 7, 2020, also conducted by VTTI, evaluated driver and situational factors affecting CMV safety in over 21,000 truck drivers and found that younger and less experienced truck drivers were more likely to be involved in crashes or moving violations compared to their older and more experienced counterparts. The study defined the younger driver age group as ages 20-33. Granting CHS's request for an exemption would allow drivers who are both young and inexperienced to operate CMVs, and the available data do not support a determination that such an exemption would likely achieve a level of safety equivalent to that achieved by following the existing regulations.

¹ Commercial Driver Safety Risk Factors https://rosap.ntl.bts.gov/view/dot/49620.

FMCSA confirmed that Maine issues CLPs and CDLs to drivers as young as 16, pursuant to a provision in the Consolidated Appropriations Act of 2016,² codified as a note to 49 U.S.C. 31308. The note provides that FMCSA may not use funds made available under that appropriations act or future acts to enforce any regulation prohibiting a State from issuing a CLP to drivers under the age of 18 if the State had a law authorizing the issuance of CLPs to under-18 drivers as of May 9, 2011. This note effectively prevents FMCSA from requiring Maine to comply with the age restriction in 49 CFR 383.25(a)(4), but it does not support granting CHS's application. CHS did not reference a comparable Washington law in effect as of May 9, 2011, however, and FMCSA has not identified one. The statutory flexibility effectively granted under the Consolidated Appropriations Act of 2016 therefore does not apply to Washington.

² Public Law 114-113, div. L, title I, § 132, Dec. 18, 2015, 129 Stat. 2850.

For the reasons stated, CHS's exemption application is denied.

Sue Lawless,
Assistant Administrator.

[FR Doc. 2025-07248 Filed 4-25-25; 8:45 am]

BILLING CODE 4910-EX-P